FEDERAL ACCOUNTING STANDARDS ADVISORY BOARD

Notice of Request for Comment on the Exposure Draft of a Classified Interpretation of Federal Financial Accounting Standards (SFFAS) 56: Classified Activities

AGENCY: Federal Accounting Standards Advisory Board.

ACTION: Notice.

Pursuant to 31 U.S.C. 3511(d), the Federal Advisory Committee Act (Pub. L. 92-463), as amended, and the FASAB Rules Of Procedure, as amended in October 2010, notice is hereby given that the Federal Accounting Standards Advisory Board (FASAB) has issued an exposure draft of a classified Interpretation of Federal Financial Accounting Standards (SFFAS) 56: Classified Activities.

Due to the classified nature of the proposal, the exposure draft will only be made available to those individuals who have been designated as having a need to know and who hold the proper clearances.

Additionally, FASAB staff will hold two classified reading sessions for those individuals without SIPR accounts to review the exposure draft. Only those individuals who have been designated as having a need to know and hold the proper clearances will be allowed to attend.

—Session I: Wednesday July 18, 2018 9:30-11:30 a.m.

—Session II: Wednesday August 1, 2018 1:30-3:30 p.m.

To request attendance at one of the reading sessions please contact Monica Valentine at valentinem@fasab.gov by July 16, 2018 for Session I and July 27, 2018 for Session II. Please provide your name, organization, and contact information.

The Board requests comments on the exposure draft by August 13, 2018 and encourages respondents to provide responses to all of the questions raised and the reasons for their positions.

FOR FURTHER INFORMATION CONTACT: Ms. Wendy M. Payne, Executive Director, 441 G Street NW, Suite 1155, Washington, DC 20548, or call (202) 512-7350.

Authority: Federal Advisory Committee Act, Pub. L. 92-463.

Dated: July 12, 2018.
Wendy M. Payne,
Executive Director.

[FR Doc. 2018-15234 Filed 7-16-18; 8:45 am]

BILLING CODE 1610-02-P